DEPARTMENT OF EDUCATION

[Docket No.: ED-2020-SCC-0076]

Agency Information Collection Activities; Submission to the Office of Management and Budget for Review and Approval; Comment Request; Demonstration Grants for Indian Children and Youth Program Grant Application Package

AGENCY: Office of Elementary and Secondary Education (OESE), Department of Education (ED).

ACTION: Notice.

SUMMARY: In accordance with the Paperwork Reduction Act of 1995, ED is proposing a reinstatement of a previously approved information collection.

DATES: Interested persons are invited to submit comments on or before June 29, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Bianca Williams, 202-453-5671.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Demonstration Grants for Indian Children and Youth Program Grant Application Package.

OMB Control Number: 1810-0722.

Type of Review: A reinstatement of a previously approved information collection.

Respondents/Affected Public: State, Local, and Tribal Governments.

Total Estimated Number of Annual Responses: 100.

Total Estimated Number of Annual Burden Hours: 3,000.

Abstract: On March 31, 2020 the Department of Education (Department) published in the Federal Register a Notice of Proposed Rulemaking (NPRM) for the Demonstration Grants for Indian Children and Youth Program (Demonstration Grants) (Vol. 85, No. 62, pages 17794-17805). Specifically, we proposed revising the regulations in 34 CFR part 263 that govern the Demonstration Grants to implement changes to title VI resulting from the enactment of the Every Student Succeeds Act (ESSA) and to better enable the Department and grantees to meet the objectives of the program. In addition, the Department proposed a new priority and accompanying requirements and selection criteria for applicants proposing to empower Tribes and parents to choose education services best suited to their students' needs. At the time the NPRM was published, no Information Collection Request was submitted concurrently. We are publishing a separate 30-day FRN to solicit public comment on the paperwork burden now.

Dated: May 22, 2020.
Kate Mullan,
PRA Coordinator,Strategic Collections and Clearance Governance and Strategy Division, Office of Chief Data Officer.

[FR Doc. 2020-11472 Filed 5-27-20; 8:45 am]

BILLING CODE 4000-01-P